DEPARTMENT OF HEALTH AND HUMAN SERVICES

Centers for Disease Control and Prevention

[30DAY-38-03]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: National Survey of State Endoscopic Capacity—New—National Center for Chronic Disease Prevention and Health Promotion (NCCDPHP), Centers for Disease Control and Prevention (CDC). CDC proposes to conduct a study to provide a state-level assessment of the current capacity to conduct colorectal cancer (CRC) screening and follow-up examinations for average risk persons aged 50 and older. CDC has already conducted the “National Survey of Endoscopic Capacity (SECAP)”. The tasks involved in this national capacity assessment included creating a list of all health care providers who own and use endoscopes for CRC screening and diagnostic follow-up; developing and administering a survey instrument to health care providers across the country who own lower GI endoscopes; and developing a tool to assess the number of people currently unscreened. The data from the SECAP study will be analyzed at the national and regional level. In response to state requests, CDC would like to assist states in assessing the state-level capacity to provide colorectal cancer (CRC) screening and follow-up examinations to appropriate persons.

The proposed study will be conducted through the implementation of a survey which will be mailed to a random sample of providers known to possess flexible sigmoidoscopes and colonoscopes in three states. The sampling frame includes all types of physician specialists and health care providers who own lower endoscopic equipment and may be screening for CRC. The survey will provide information on the types of health care providers who are performing CRC screening and follow-up examinations, the equipment currently being used for screening and follow-up examinations, and current reimbursement rates for these tests. The results of the analysis will be used to (1) identify state-level deficits in the medical infrastructure, (2) guide the development of state-level training initiatives and educational programs for health care providers, and (3) provide critical baseline information for state policy makers for the planning of state-level initiatives to increase colorectal cancer screening. CDC is currently in the process of selecting participating states through a competitive process. The annualized estimated burden is 688 hours.

Respondents | No. of respondents | No. of responses/respondent | Avg. burden per response (in hours)
Screening Call: |  |  |
Year 1 (3 states) | 969 | 1 | 5/60
Year 2 (6 states) | 1,940 | 1 | 5/60
Year 3 (6 states) | 1,940 | 1 | 5/60
Annualized screening calls | *1,616 |  |
Mail Survey: |  |  |
Year 1 (3 states) | 797 | 1 | 25/60
Year 2 (6 states) | 1,595 | 1 | 25/60
Year 3 (6 states) | 1,595 | 1 | 25/60
Annualized mail survey | *1,329 |  |
*Average number of respondents per year.

Dated: April 4, 2003.
Tom Bartenfeld,
Acting Associate Director for Policy, Planning and Evaluation, Centers for Disease Control and Prevention.

[FR Doc. 03-8747 Filed 4-9-03; 8:45 am]

BILLING CODE 4163-18-P